DEPARTMENT OF HOMELAND SECURITY

Coast Guard

33 CFR Part 117

[Docket No. USCG-2010-0847]

Drawbridge Operation Regulations; Charles River, Boston, MA, Maintenance

AGENCY: Coast Guard, DHS.

ACTION: Notice of temporary deviation from regulations.

SUMMARY: The Commander, First Coast Guard District, has issued a temporary deviation from the regulation governing the operation of the Craigie Bridge across the Charles River, mile 1.0, at Boston, Massachusetts. The deviation is necessary to facilitate scheduled rehabilitation maintenance at the bridge. Under this deviation the bridge may remain in the closed position from November 1, 2010 through April 26, 2011.

DATES: This deviation is effective from November 1, 2010 through April 26, 2011.

ADDRESSES: Documents mentioned in this preamble as being available in the docket are part of docket USCG-2010-0847 and are available online at www.regulations.gov, inserting USCG-2010-0847 in the “Keyword” and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John W. McDonald, Project Officer, First Coast Guard District, telephone (617) 223-8364, john.w.mcdonald@uscg.mil. If you have questions on viewing the docket, call Renee V. Wright, Program Manager, Docket Operations, telephone 202-366-9826.

SUPPLEMENTARY INFORMATION: The Craigie Bridge across the Charles River at mile 1.0, has a vertical clearance of 10.25 feet at normal pool elevation. The drawbridge operation regulations are listed at 33 CFR 117.591(e).

During the rehabilitation construction the Craigie Bridge will provide a vertical clearance of 17.41 feet at normal pool elevation from November 15, 2010 through January 19, 2011, and 10.25 feet at normal pool elevation from January 20, 2011 through April 26, 2011.

The operator of the bridge, the Massachusetts Department of Transportation, requested a temporary deviation from the regulations to facilitate scheduled rehabilitation maintenance from November 1, 2010 through April 26, 2011.

The normal waterway users are predominantly recreational craft of various sizes and commercial tour boats that operate from April through November. The waterway is normally frozen from late December through March each year.

Under this temporary deviation the Craigie Bridge may remain in the closed position from November 1, 2010 through April 26, 2011, to facilitate rehabilitation maintenance at the bridge.

From November 1 through November 14, 2010, a work barge will be located under the bridge blocking the entire channel from vessel access while the bridge lift spans are removed.

From November 15, 2010 through April 26, 2011, vessels that can pass under the bridge in the closed position may do so provided they contact the contractor, J.F. White, Mr. Greg Labrum, via land line at 508-879-4700 or cell phone at 617-719-7150, to arrange a transit.

Waterway users were advised of the requested bridge and channel closure and offered no objection.

In accordance with 33 CFR 117.35(e), the bridge must return to its regular operating schedule immediately at the end of the designated time period. This deviation from the operating regulations is authorized under 33 CFR 117.35.

Dated: September 28, 2010.
Gary Kassof,
Bridge Program Manager, First Coast Guard District.

[FR Doc. 2010-25498 Filed 10-8-10; 8:45 am]

BILLING CODE 9110-04-P